DEPARTMENT OF COMMERCE

National Oceanic and Atmospheric Administration

[I.D. 111700A]

Endangered Species; Permits

AGENCY: National Marine Fisheries Service (NMFS), National Oceanic and Atmospheric Administration (NOAA), Commerce.

ACTION: Issuance of modifications to existing permits (1113).

SUMMARY: Notice is hereby given of the following actions regarding permits for takes of endangered and threatened species for the purposes of scientific research and/or enhancement: NMFS has issued modifications to scientific research permits to: Dr. Cheryl Woodley, NOS-Marine Forensics Laboratory - Charleston, SC (1113).

ADDRESSES: For permit 1113: Endangered Species Division, Office of Protected Resources, NMFS, 1315 East-West Highway, Silver Spring, MD, 20910 301-713-1401.

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Species Covered in This Notice

The following species and evolutionarily significant units (ESU's) are covered in this notice:

Sea Turtles

Green turtle (Chelonia mydas), Hawksbill turtle (Eretmochelys imbricata), Kemp's ridley turtle (Lepidochelys kempii), Leatherback turtle (Dermochelys coriacea), Loggerhead turtle (Caretta caretta), and Olive ridley turtle (Lepidochelys olivacea).

Fish

All listed ESUs of Chinook salmon (Oncorhynchus tshawytscha), Chum salmon (Oncorhynchus keta), Coho salmon (Oncorhynchus kisutch), Sockeye salmon (Oncorhynchus nerka), and Steelhead Trout(Oncorhynchus mykiss).

Permits and Modifications Issued

NMFS received an application from Dr. Cheryl Woodley, of NOS - Marine Forensics Laboratory to modify research permit #1113 on August 23, 2000. The applicant currently possesses a permit authorizing the possession of tissue samples from ESA-listed non-marine mammal and non-reptilian species under NMFS jurisdiction associated with genetic research studies and support of law enforcement actions. Law enforcement personnel have an ongoing need for scientific assistance in cases concerning endangered, protected, and managed marine species. The Marine Forensics Center provides technical/scientific assistance to a variety of law enforcement agencies including NMFS Enforcement, U.S. Customs, U.S. Fish and Wildlife Service, and state wildlife enforcement agencies. Forensics analyses generally involve a biochemical or genetic test when a comparison is made between evidence and voucher samples. Voucher samples which are used in a forensics analysis are collected and maintained under strict criteria that includes documentation (species identification form) from the expert who has authenticated the samples; a chain of custody which originates with the sample collection; and storage under secure conditions. The research will provide species identifications and is expected to extend to addressing other critical genetics information needs that will allow monitoring of recovery, characterization of genetic stocks and various aspects of genetic health for the species.

The applicant is not to conduct any field collection exercises to obtain the samples. All of the samples must be obtained from other previously authorized activities (permitted scientific research activities, or specimens confiscated by law enforcement authorities) and documented as described above.

Although the activities proposed by the applicant will not result in the take of a listed species, NOS - Forensics center has requested a permit to allow them to maintain tissues of species that were taken in violation of the ESA that may be given to them by law enforcement authorities.

Modification #1 requests that marine reptile species under NMFS jurisdiction be added to the authorized species covered under this permit. NMFS has also added newly listed ESUs of Pacific Salmon to the permit per permit special condition 2.e. Modification #1 to Permit 1113 was issued on November 9, 2000, authorizing take of listed species. Permit expires December 31, 2003.

Dated: November 22, 2000.
Margaret Lorenz,
Acting Chief, Endangered Species Division, Office of Protected Resources, National Marine Fisheries Service.

[FR Doc. 00-30419 Filed 11-28-00; 8:45 am]

BILLING CODE 3510-22-S